DEPARTMENT OF ENERGY

Federal Energy Regulatory Commission

[Docket No. CP17-434-000]

Northern Natural Gas Company; Notice of Request Under Blanket Authorization

Take notice that on April 28, 2017, Northern Natural Gas Company (Northern), 1111 South 103rd Street, Omaha, Nebraska 68124-1000, filed in the above Docket, a prior notice request pursuant to sections 157.205, 157.208, and 157.216 of the Commission's regulations under the Natural Gas Act (NGA) and Northern's blanket certificate issued in Docket No. CP82-401-000, for authorization to construct, own, and operate a total of 13.8 miles of 20-inch-diameter pipeline loop in two non-contiguous segments and appurtenant facilities in Boone and Polk Counties, Iowa, and abandon two short segments of pipeline in Polk County, Iowa (Des Moines B-line Loop Project), all as more fully set forth in the application which is on file with the Commission and open to public inspection.

The filing may also be viewed on the web at http://www.ferc.gov using the “eLibrary” link. Enter the docket number excluding the last three digits in the docket number field to access the document. For assistance, please contact FERC Online Support at FERCOnlineSupport@ferc.gov or toll free at (866) 208-3676, or TTY, contact (202) 502-8659.

Any questions concerning this prior notice request should be directed to Michael T Loeffler, Senior Director, Certificates and External Affairs for Northern, 1111 South 103rd Street, Omaha, Nebraska 68124, or phone (402) 398-7103, or by email at mike.loeffler@nngco.com.

Specifically, Northern states that the proposed project is a proactive measure to uphold pipeline integrity on Des Moines A-line. Northern states that it needs to reduce operating pressure on that line from 490 psig to 380 psig. To replace lost capacity associated with the lowered operating pressure, Northern proposes to install (1) approximately 11.2 miles of 20-inch-diameter pipeline loop starting at Northern's existing Ogden compressor station, and (2) approximately 2.6 miles of 20-inch-diameter pipeline loop starting at Northern's existing Royal Estates reducing station. Northern also proposes to remove (3) 20 feet of 8-inch-diameter station piping and (4) 5 feet of the 16-inch-diameter Des Moines B-line, both at the Royal Estates reducing station. Northern further states that with the exception of a segment of pipeline that will be installed adjacent to the road right of way, the pipeline loops will be placed adjacent to the existing Des Moines B-line. To maintain Northern's contractual obligations, the operating pressure on Des Moines A-line will be reduced once the Des Moines B-line Loop Project is placed in-service. The estimated cost of the project is $32.5 million.

Pursuant to section 157.9 of the Commission's rules, 18 CFR 157.9, within 90 days of this Notice the Commission staff will either: complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a)(1)(iii) and the instructions on the Commission's Web site (www.ferc.gov) under the e-Filing link.

Dated: May 11, 2017.
Kimberly D. Bose,
Secretary.

[FR Doc. 2017-09951 Filed 5-16-17; 8:45 am]

BILLING CODE 6717-01-P